DEPARTMENT OF TRANSPORTATION

Federal Aviation Administration

[Summary Notice No. PE-2000-20]

Petitions for Exemption; Summary of Petitions Received; Dispositions of Petitions Issued

AGENCY: Federal Aviation Administration (FAA), DOT.

ACTION: Notice of petitions for exemption received and of dispositions of prior petitions.

SUMMARY: Pursuant to FAA's rulemaking provisions governing the application, processing, and disposition of petitions for exemption (14 CFR Part 11), this notice contains a summary of certain petitions seeking relief from specified requirements of the Federal Aviation Regulations (14 CFR Chapter I), dispositions of certain petitions previously received, and corrections. The purpose of this notice is to improve the public's awareness of, and participation in, this aspect of FAA's regulatory activities. Neither publication of this notice nor the inclusion or omission of information in the summary is intended to affect the legal status of any petition or its final disposition.

DATES: Comments on petitions received must identify the petition docket number involved and must be received on or before June 27, 2000.

ADDRESSES: Send comments on any petition in triplicate to: Federal Aviation Administration, Office of the Chief Counsel, Attn: Rule Docket (AGC-200), Petition Docket No. ___, 800 Independence Avenue, SW., Washington, D.C. 20591.

Comments may also be sent electronically to the following internet address: 9-NPRM-cmts@faa.gov.

The petition, any comments received, and a copy of any final disposition are filed in the assigned regulatory docket and are available for examination in the Rules Docket (AGC-200), Room 915G, FAA Headquarters Building (FOB 10A), 800 Independence Avenue, SW., Washington, DC 20591; telephone (202) 267-3132.

FOR FURTHER INFORMATION CONTACT: Cherie Jack (202) 267-7271, Forest Rawls (202) 267-8033, or Vanessa Wilkins (202) 267-8029 Office of Rulemaking (ARM-1), Federal Aviation Administration, 800 Independence Avenue, SW., Washington, DC 20591.

This notice is published pursuant to paragraphs (c), (e), and (g) of § 11.27 of Part 11 of the Federal Aviation Regulations (14 CFR Part 11).

Issued in Washington, DC, on June 1, 2000.
Donald P. Byrne,
Assistant Chief Counsel for Regulations.

Petitions for Exemption

Docket No.: 30010.

Petitioner: Avcon Industries, Inc.

Section of the FAR Affected: 14 CFR 25.857(e)(4).

Description of Relief Sought: To certify Learjet Model 20 and 30 series airplanes, to be modified for the carriage of cargo as Class E compartments (an STC project), without meeting the requirements to exclude hazardous quantities of smoke, flames or noxious gases from the flightcrew compartment.

Docket No.: 30022.

Petitioner: Midway Airlines.

Section of the FAR Affected: 14 CFR 25.858 and 121.314(c).

Description of Relief Sought: To allow operation, until June 30, 2001, of two Fokker Model F28-0100 airplanes beyond the cargo compartment modification deadline of March 19, 2001.

Docket No.: 30023.

Petitioner: Lufthansa Technik.

Section of the FAR Affected: 14 CFR 25.562, 25.785(b), 25.785(h)(2), 25.785(j), 25.183(e), and 25.853(d).

Description of Relief Sought: To permit an executive interior to be installed for “private, not-for-hire” use on a Boeing Model 777-200 airplane.

Docket No.: 30052.

Petitioner: Airbus Industrie.

Section of the FAR Affected: 14 CFR 21.183(f), 25.2(b), 25.807(f)(4), and 121.310(m).

Description of Relief Sought: To permit a distance between exit door pairs 2 and 3 in excess of 60 feet for the A340-600 airplane.

[FR Doc. 00-14157 Filed 6-5-00; 8:45 am]

BILLING CODE 4910-13-M